DEPARTMENT OF TRANSPORTATION

Office of the Secretary

Elizabeth Betsy Pope d/b/a Eastgate Laboratory Testing and Mounir R. Khouri; Removal From the Public Interest Exclusion List

AGENCY: Office of the Secretary, DOT.

ACTION: Notice.

SUMMARY: The Department of Transportation (DOT) issued a decision and order under the Procedures for Transportation Workplace Drug and Alcohol Testing Programs excluding a service agent, Elizabeth “Betsy” Pope d/b/a Eastgate Laboratory Testing in Tennessee and all other places doing business, and all other individuals who are employees or all other individuals associated with Ms. Pope and Eastgate Laboratory Testing, from providing drug and alcohol testing services in any capacity to any DOT-regulated employer for a period of 5 years. Ms. Pope and her company provided Medical Review Officer services to DOT-regulated employers directly and through other service agents when Ms. Pope was not qualified to act as a Medical Review Officer. The 5-year period has ended and Ms. Pope, et al., have been removed from the list of excluded service agents.

DATES: This Notice is effective as of January 21, 2021.

FOR FURTHER INFORMATION CONTACT: Bohdan Baczara, Deputy Director, U.S. Department of Transportation, Office of Drug and Alcohol Policy and Compliance, 1200 New Jersey Avenue SE, Washington, DC 20590; (202) 366-3784 (voice), (202) 366-3897 (fax), or Bohdan.Baczara@dot.gov.

SUPPLEMENTARY INFORMATION: The Department of Transportation (DOT) issued a decision and order under the Procedures for Transportation Workplace Drug and Alcohol Testing Programs excluding a service agent, Mounir R. Khouri d/b/a Mobile Testing Services, Inc., in Vermont and all other places it is incorporated, franchised, or otherwise doing business, and all other individuals who are officers, employees, directors, shareholders, partners, or other individuals associated with Mr. Khouri and Mobile Testing Services, Inc., from providing drug and alcohol testing services in any capacity to any DOT-regulated employer for a period of 5 years. Mr. Khouri and his company provided Medical Review Officer services to DOT-regulated employers directly and through other service agents when Mr. Khouri was not qualified to act as a Medical Review Officer. The 5-year period has ended and Mr. Khouri, et al., have been removed from the list of excluded service agents.

The Department published notice of the Public Interest Exclusion for Elizabeth Betsy Pope, et al., on August 24, 2015 (80 FR 51349) and for Mounir R. Khouri, et al., on January 27, 2016 (81 FR 4739). The exclusions were for 5-year periods, respectively, which have now run their term. We have removed Ms. Pope and Mr. Khouri from the DOT's list of Public Interest Exclusions on our website at: http://www.transportation.gov/odapc/pie. We are also notifying the public of the removal by publishing this Federal Register notice as required by 49 CFR 40.401(d).

Issued on May 20, 2021, in Washington, DC.
Bohdan Baczara,
Deputy Director, Office of Drug and Alcohol Policy Compliance.

[FR Doc. 2021-11902 Filed 6-7-21; 8:45 am]

BILLING CODE 4910-9X-P